ENVIRONMENTAL PROTECTION AGENCY

40 CFR Part 721

[EPA-HQ-OPPT-2005-0015; FRL-8150-4]

RIN 2070-AJ18

Perfluoroalkyl Sulfonates; Significant New Use Rule

AGENCY: Environmental Protection Agency (EPA).

ACTION: Final rule.

SUMMARY: EPA is amending a significant new use rule (SNUR) under section 5(a)(2) of the Toxic Substances Control Act (TSCA) to include certain additional perfluoroalkyl sulfonate (PFAS) chemicals. EPA is amending the PFAS SNUR at 40 CFR 721.9582 by adding a new Table 3 which includes the PFAS chemicals currently on the public TSCA Inventory that are not already covered by the SNUR. This rule requires manufacturers, including importers, to notify EPA at least 90 days before commencing the manufacture or import of the PFAS chemicals listed in Table 3 of the regulatory text for the significant new uses described in this document on or after November 8, 2007. EPA believes that this action is appropriate because these chemical substances may be hazardous to human health and the environment. This required notice will provide EPA the opportunity to evaluate intended significant new uses and associated activities before they occur and, if necessary, to prohibit or limit those uses or activities.

DATES: This final rule is effective November 8, 2007.

ADDRESSES: EPA has established a docket for this action under docket identification (ID) number EPA-HQ-OPPT-2005-0015. All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., Confidential Business Information (CBI) or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

SUPPLEMENTARY INFORMATION:

I. Does this Action Apply to Me?

You may be potentially affected by this action if you manufacture or import any of the chemical substances that are listed in Table 3 of the regulatory text. This action may also affect certain entities through pre-existing import certification and export notification rules under TSCA. Persons who import any chemical substance governed by a final SNUR are subject to the TSCA section 13 (15 U.S.C. 2612) import certification requirements and the corresponding regulations at 19 CFR 12.118 through 12.127 and 127.28. Those persons must certify that the shipment of the chemical substance complies with all applicable rules and orders under TSCA, including any SNUR requirements. The EPA policy in support of import certification appears at 40 CFR part 707, subpart B. In addition, any persons who export or intend to export a chemical substance that is the subject of this rule are subject to the export notification provisions of TSCA section 12(b)(15 U.S.C. 2611(b))(see 40 CFR 721.20), and must comply with the export notification requirements in 40 CFR part 707, subpart D. Potentially affected entities may include, but are not limited to:

• Manufacturers (defined by statute to include importers) or chemical exporters of one or more of the subject chemical substances (NAICS codes 325 and 324110), e.g., chemical manufacturing and petroleum refineries.

• Establishments (NAICS code 332813), e.g., primarily engaged in electroplating, plating, anodizing, coloring, buffing, polishing, cleaning, and sandblasting metals and metal products.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in 40 CFR 721.5 and 40 CFR 721.9582 as described herein. Also consult Unit II. If you have any questions regarding the applicability of this action to a particular entity, consult the technical person listed under FOR FURTHER INFORMATION CONTACT.

II. Background

In the Federal Register of March 10, 2006 (71 FR 12311) (FRL-7740-6), EPA proposed to add 183 PFAS chemicals to the SNUR at 40 CFR 721.9582. The 183 chemicals being added to the SNUR are listed in Table 3 in the regulatory text of this document. The chemicals listed in Table 3 are on the public TSCA Inventory and have the characteristic PFAS chemical structure of a perfluorinated carbon chain (Rf) greater than, or equal to, C5 attached to an SO2 group connected to the rest of the molecule. In addition, the proposal also included those chemicals with Rf ranges of perfluorinated carbon chains shorter than C5, and greater than C5, for example, C4-C12 and C6-C12. In this SNUR, this PFAS chemical structure is referred to as the Rf moiety. EPA believed the action was warranted given the similarity of these chemicals to those currently included in 40 CFR 721.9582 and the strong likelihood of similar health and environmental concerns, as discussed in Unit III. of the March 10, 2006 document. EPA also proposed to make the excepted uses described in 40 CFR 721.9582(a)(3) applicable to the chemicals listed in Table 3 of the proposed regulatory text.

A. What Action is the Agency Taking?

The Agency is designating as a “significant new use” the manufacture, including import, of the chemical substances listed in Table 3 of the regulatory text, for any use, except for the excluded uses described in this unit. Based on comments received during the public comment period and related communications, EPA learned of an ongoing use of seven PFAS chemicals as a component of an etchant used in the plating process to produce electronic devices. Consequently, that use has been excluded from this SNUR for those seven chemicals. See § 721.9582(a)(5) or the discussion in this unit of the significant new uses for a list of those chemicals.

In addition, the public comments described the ongoing use of PFAS chemicals as a fume/mist suppressant in metal finishing and plating baths. However, based on searches of the Internet which generated information on PFAS from the Organization for Economic Cooperation and Development (OECD), industry, and information from the California Air Resources Board (Refs. 1 and 2), EPA has concluded that only one chemical in Table 3, tetraethylammonium perfluorooctanesulfonate (CAS No. 56773-42-3), is used in this application. Therefore, EPA has excluded that use of this chemical from this SNUR. However, EPA remains concerned about this use, because at least two commenters to this SNUR noted that small quantities of this PFAS surfactant are released in the routine renewal of the plating baths. In addition, since the close of the public comment period, EPA has learned from a 2007 survey by Minnesota of over 30 wastewater treatment plants that PFOS, which is the anionic counterion of this PFAS surfactant, is appearing in wastewater treatment plant influent, effluent, and sludge associated with the fume/mist suppressant use in metal finishing and plating baths. As a result of these concerns, although outside the scope of this rule, EPA will continue to work with state agencies and industry to identify best management practices for minimizing the release of this PFAS surfactant.

A chemical fume (or mist) suppressant refers to any chemical agent that reduces or suppresses fumes or mists at the surface of an electroplating bath or solution. Chemical fume suppressants are “surface-active” compounds that can be added directly to a chrome plate acid bath to reduce or control misting (Ref. 3). PFAS chemicals are effective fume suppressants because of their surfactant properties. Fume suppressants act by reducing the plating bath surface tension which then inhibits misting. Misting occurs when bubbles break free of a liquid bath's surface and burst in the air. When the surface tension of a bath is lowered, as occurs with the use of PFAS fume suppressants, gases escape at the surface of the plating bath solution with less of a “bursting” effect, forming less mist (Ref. 4). Such fume suppressants, as opposed to other chemical surfactants, are used in the plating industry because the PFAS fume suppressant is able to withstand the harsh conditions of plating baths while lowering the plating bath surface tension to levels specified by current regulatory standards (Ref. 5). While several of these PFAS chemicals were developed for this use, only one is being used currently.

The plating fume suppressant that contains tetraethylammonium perfluorooctanesulfonate (CAS No. 56773-42-3) to reduce surface tension is different than the types of fume suppressants used in the plating industry that produce a foam blanket, and which can be used alone or in conjunction with PFAS fume suppressants.

This rule requires persons to notify EPA at least 90 days before commencing the manufacture (including import) of the chemical substances identified in Table 3 of the regulatory text for any use, except:

• Use as an anti-erosion additive in fire-resistant phosphate ester aviation hydraulic fluids.

• Use as a component of a photoresist substance, including a photo acid generator or surfactant, or as a component of an anti-reflective coating, used in a photomicrolithography process to produce semiconductors or similar components of electronic or other miniaturized devices.

• Use in coating for surface tension, static discharge, and adhesion control for analog and digital imaging films, papers, and printing plates, or as a surfactant in mixtures used to process imaging films.

• Use of: 1-Pentanesulfonic acid, 1,1,2,2,3,3,4,4,5,5,5-undecafluoro-, potassium salt (CAS No. 3872-25-1); Glycine, N-ethyl-N-[(tridecafluorohexyl)sulfonyl]-, potassium salt (CAS No. 67584-53-6); Glycine, N-ethyl-N-[(pentadecafluoroheptyl)sulfonyl]-, potassium salt (CAS No. 67584-62-7); 1-Heptanesulfonic acid, 1,1,2,2,3,3,4,4,5,5,6,6,7,7,7-pentadecafluoro-, ammonium salt (CAS No. 68259-07-4); 1-Heptanesulfonamide, N-ethyl-1,1,2,2,3,3,4,4,5,5,6,6,7,7,7-pentadecafluoro- (CAS No. 68957-62-0); Poly(oxy-1,2-ethanediyl), .alpha.-[2-[ethyl[(pentadecafluoroheptyl)sulfonyl]amino]ethyl]-.omega.-methoxy- (CAS No. 68958-60-1); or 1-Hexanesulfonic acid, 1,1,2,2,3,3,4,4,5,5,6,6,6-tridecafluoro-, compd. with 2,2′- iminobis[ethanol] (1:1) (CAS No. 70225-16-0) as a component of an etchant, including a surfactant or fume suppressant, used in the plating process to produce electronic devices.

• Use of tetraethylammonium perfluorooctanesulfonate (CAS No. 56773-42-3) as a fume/mist suppressant in metal finishing and plating baths. Examples of such metal finishing and plating baths include: Hard chrome plating; decorative chromium plating; chromic acid anodizing; nickel, cadmium, or lead plating; metal plating on plastics; and alkaline zinc plating.

• Use as an intermediate only to produce other chemical substances to be used solely for the uses listed in bullets 1, 2, or 3 of this unit.

B. What is the Agency's Authority for Taking this Action?

Section 5(a)(2) of TSCA (15 U.S.C. 2604(a)(2)) authorizes EPA to determine that a use of a chemical substance is a “significant new use.” EPA must make this determination by rule after considering all relevant factors, including those listed in TSCA section 5(a)(2). Once EPA determines that a use of a chemical substance is a significant new use, TSCA section 5(a)(1)(B) requires persons to submit a Significant New Use Notice (SNUN) to EPA at least 90 days before they manufacture, import, or process the chemical substance for that use (15 U.S.C. 2604(a)(1)(B)). The mechanism for reporting under this requirement is established under 40 CFR 721.5.

C. Applicability of General Provisions

General provisions for SNURs appear under 40 CFR part 721, subpart A. These provisions describe persons subject to the rule, recordkeeping requirements, exemptions to reporting requirements, and applicability of the rule to uses occurring before the effective date of the final rule. Provisions relating to user fees appear at 40 CFR part 700. According to 40 CFR 721.1(c), persons subject to this SNUR must comply with the same notice requirements and EPA regulatory procedures as submitters of Premanufacture Notices (PMNs) under TSCA section 5(a)(1)(A). In particular, these requirements include the information submission requirements of TSCA section 5(b) and 5(d)(1), the exemptions authorized by TSCA section 5(h)(1), (h)(2), (h)(3), and (h)(5), and the regulations at 40 CFR part 720. Once EPA receives a SNUN, EPA may take regulatory action under TSCA section 5(e), 5(f), 6 or 7 to control the activities for which it has received the SNUN. If EPA does not take action, EPA is required under TSCA section 5(g) to explain in the Federal Register its reasons for not taking action.

Persons who export or intend to export a chemical substance identified in a proposed or final SNUR are subject to the export notification provisions of TSCA section 12(b). The regulations that implement TSCA section 12(b) appear at 40 CFR part 707, subpart D. Persons who import a chemical substance identified in a final SNUR are subject to the TSCA section 13 import certification requirements, which appear at 19 CFR 12.118 through 12.127 and 127.28. Such persons must certify that the shipment of the chemical substance complies with all applicable rules and orders under TSCA, including any SNUR requirements. The EPA policy in support of import certification appears at 40 CFR part 707, subpart B.

III. Objectives and Rationale for this Final Rule

A. Objectives

Based on the considerations in Unit III. of the preamble to the proposed SNUR and in Unit III.B. and Unit IV. of this preamble, by issuing this SNUR, EPA will achieve the following objectives with regard to the significant new uses that are designated in this rule:

• EPA will receive notice of any person's intent to manufacture or import any chemical listed in Table 3 of the regulatory text for the described significant new use before that activity begins.

• EPA will have an opportunity to review and evaluate data submitted in a SNUN before the notice submitter begins to manufacture or import any chemicals listed in Table 3 of the regulatory text for a significant new use.

• EPA will have an opportunity to regulate prospective manufacturers or importers of any chemical listed in Table 3 of the regulatory text before a significant new use of the chemical substance occurs, provided that regulation is warranted pursuant to TSCA sections 5(e), 5(f), 6 or 7.

B. Rationale

EPA has concerns regarding adverse human health and environmental effects of PFAS. It is highly persistent in the environment, it tends to bioaccumulate, and it is toxic. In its voluntary phase-out of perfluorooctane sulfonate (PFOS) and PFOS-related products, the 3M Company, which had been the sole U.S. manufacturer of the chemicals, committed to stop production of all perfluoroalkyl sulfonic acid products with alkyl chain lengths of C8 or greater. 3M completed its phase-out of PFOS production in 2002, which led to a significant reduction in the use of all PFAS-related substances.

Production of the 183 PFAS chemicals in Table 3 is limited to the excluded uses described in 40 CFR 721.9582(a)(3) and in Unit II.A. of this document. Production volumes and exposures have been decreasing. Any manufacture or import for a significant new use is expected to significantly increase exposures beyond levels that now occur. EPA is concerned that manufacture or import of the PFAS chemicals listed in Table 3 of the regulatory text for any uses not excluded by this SNUR could be reinitiated in the future. The notice required by this SNUR will provide EPA with additional information to evaluate activities associated with a significant new use and to protect against unreasonable risks, if any, from exposure to the substances.

IV. Significant New Use Determination

Section 5(a)(2) of TSCA states that EPA's determination that a use of a chemical substance is a significant new use must be made after consideration of all relevant factors including:

• The projected volume of manufacturing and processing of a chemical substance.

• The extent to which the use changes the type or form of exposure of humans or the environment to a chemical substance.

• The extent to which the use increases the magnitude and duration of exposure of human beings or the environment to a chemical substance.

• The reasonably anticipated manner and methods of manufacturing, processing, distribution in commerce, and disposal of a chemical substance.

TSCA section 5(a)(2) authorizes EPA to consider any other relevant factors in addition to the factors enumerated in the bulleted items.

To determine what would constitute a significant new use of a chemical listed in Table 3 of the regulatory text, EPA considered relevant information about the toxicity of the PFAS substances, likely human exposures and environmental releases associated with possible uses, and the four factors listed in this unit.

As described in Unit III. of the proposed SNUR, EPA has concerns regarding the reproductive and subchronic toxicity, persistence, and bioaccumulative potential of the chemical substances that are included in this SNUR. These concerns lead the Agency to believe that humans and the environment could suffer adverse effects from their use. Any use of these PFAS chemicals would continue to add to the reservoir of perfluoroalkyl sulfonic acids (PFASA) in the environment, resulting in additional human/environmental exposure. There is evidence that PFAS-containing chemicals degrade to perfluoroalkyl sulfonic acids (PFASA), which exist in the anionic form in the environment, or to PFASA precursors.

The latest information available to EPA indicates that the chemicals listed in Table 3 of the regulatory text are no longer being manufactured for any uses other than the excluded uses described in Unit II. of this SNUR. EPA believes that reintroduction of PFAS for any use other than the listed uses EPA has identified could significantly increase the production volume, and the magnitude and duration of exposure to humans and the environment to these chemical substances over that which would otherwise exist. Consequently, EPA wants the opportunity to evaluate and control, if appropriate, exposures associated with those activities before they occur. Based upon the relevant factors discussed in this unit, EPA has determined that the manufacture, including import, of any of the chemicals listed in Table 3 of the regulatory text for any use other than those described in Unit II., is a significant new use.

EPA will continue to evaluate the excluded uses and may pursue additional regulatory action under TSCA, if necessary in the future.

V. Test Data and Other Information

TSCA section 5 does not require the development of any particular test data before submission of a SNUN. Persons are required to submit only test data in their possession or under their control and to describe any other data known to or reasonably ascertainable by them (15 U.S.C. 2604(d); 40 CFR 721.25).

In view of the Agency's concerns regarding activities associated with the significant new use(s) of any chemical listed in Table 3 of the regulatory text, EPA recommends that SNUN submitters include data that would permit a reasoned evaluation of risks posed by the chemical substance during its manufacture, import, processing, use, distribution in commerce, or disposal. EPA encourages persons to consult with the Agency before submitting a SNUN. As part of this optional pre-notice consultation, EPA would discuss specific data it believes may be useful in evaluating a significant new use. SNUNs submitted for significant new uses without any test data may increase the likelihood that EPA will take action under TSCA section 5(e) to prohibit or limit activities associated with the chemical.

SNUN submitters should be aware that EPA will be better able to evaluate SNUNs that provide detailed information on:

• Human exposures and environmental releases that may result from the significant new uses of the chemical substance.

• Potential benefits of the chemical substance.

• Information on risks posed by the chemical substance compared to risks posed by potential substitutes.

VI. SNUN Submissions

SNUNs must be mailed to the Environmental Protection Agency, OPPT Document Control Office (7407M), 1200 Pennsylvania Ave., NW., Washington, DC 20460-0001. Information must be submitted in the form and manner set forth in EPA Form No. 7710-25. This form is available from the Environmental Assistance Division (7408M), 1200 Pennsylvania Ave., NW., Washington, DC 20460-0001 (see 40 CFR 721.25 and 720.40). Forms and information are also available electronically at http://www.epa.gov/opptintr/newchems/pubs/pmnforms.htm.

As discussed in Unit V., EPA recommends that submitters consult with the Agency prior to submitting a SNUN to discuss what data may be useful in evaluating a significant new use. Discussions with the Agency prior to submission can afford submitters ample time to conduct any tests that might be helpful in evaluating the risks posed by the substance.

VII. Applicability of Rule to Uses Occurring Before Effective Date of the Final Rule

As discussed in the Federal Register of April 24, 1990 (55 FR 17376), EPA has decided that the intent of section 5(a)(1)(B) of TSCA is best served by designating a use as a significant new use as of the date of publication of the proposed rule rather than as of the effective date of the final rule. If uses begun after publication of the proposed rule were considered ongoing rather than new, it would be difficult for EPA to establish SNUR notice requirements, because a person could defeat the SNUR by initiating the proposed significant new use before the rule became final, and then argue that the use was ongoing as of the effective date of the final rule. Thus, persons who may have begun commercial manufacture or import of the chemical substances listed in Table 3 of the regulatory text for the significant new uses listed in this final SNUR after the proposal was published on March 10, 2006, must stop that activity before the effective date of this final rule. To resume their activities, these persons would have to comply with all applicable SNUR notice requirements and wait until the notice review period, including all extensions, expires. EPA has promulgated provisions to allow persons to comply with this SNUR before the effective date. If a person were to meet the conditions of advance compliance under § 721.45(h), that person would be considered to have met the requirements of the final SNUR for those activities.

VIII. Discussion of the Final Significant New Use Rule and Response to Comments

This action finalizes the SNUR proposed in the Federal Register on March 10, 2006 (71 FR 12311). On April 10, 2006 (71 FR 18055) (FRL-7779-7), EPA extended the closing date of the public comment period from April 10, 2006 to May 10, 2006. On May 10, 2006 (71 FR 27217) (FRL-8068-8), EPA further extended the closing date of the comment period from May 10, 2006 to August 8, 2006.

This final rule requires persons who intend to manufacture or import any of the chemical substances listed in Table 3 of the regulatory text for any use other than those excluded uses described in Unit II.A. to submit a SNUN at least 90 days before commencing the manufacture or importation of any of these chemicals.

It should be noted that, in Table 3, some of the chemical names are different from those in the previous proposed SNUR of March 10, 2006. This is due to enhancement of the nomenclature or nomenclature changes adopted by the Chemical Abstracts Service (CAS). CAS is now using the 16th Collective Index (known as the ACI). EPA has updated the previously used 9th Collective Index names to reflect the latest changes by CAS. The CAS numbers and chemicals, however, remain the same. In some cases, the extremely long ACI names have been truncated to save space. Each complete ACI name is available at the EPA website in the TSCA Substance Registry System (SRS) at http://www.epa.gov/srs. Also, to be consistent with the other tables already in the SNUR, the order of the listing has been reversed from the descending order used in the proposed SNUR to ascending order used in this final SNUR.

The Agency reviewed and considered all comments received related to the proposed rule. Copies of all non-CBI comments are available at http://www.regulations.gov in the public docket for this action, EPA-HQ-OPPT-2005-0015. A discussion of the comments germane to the rulemaking, and the Agency's responses, follows.

1. Comment summary. Metal plating and finishing industries that currently use specific PFAS chemicals to meet regulatory standards for hexavalent chromium (Cr(VI)) emissions established by Federal and State regulations need to be excluded from the SNUR as a current use (similar to the exclusions for semiconductors and imaging products in previously promulgated SNURs). The releases and exposures to PFAS associated with the industry are comparably of much less concern than those related to nickel (Ni) and hexavalent chromium (Cr(VI)) which result when PFAS fume suppressants are not used. In addition, the economic and competitive liabilities will cripple this domestic industry if these chemicals are no longer permitted to be used. Commenters described their continuing efforts to find greener, safer substitutes, but explained that for many uses there are no viable alternatives. Commenters said that the metal finishing industry continues to support research and development efforts to identify commercially viable alternatives to hexavalent chromium plating chemistries. To date, alternative technologies show some promise for niche applications, but have not gained widespread commercial application due to: 1) The superior coating performance in decorative, functional, and corrosion protection applications for hexavalent chromium plating; 2) cost effective applications; 3) broad and flexible ranges of use; and 4) strong customer/market preferences for hexavalent chromium plating.

Response. EPA now recognizes that the metal plating and finishing industries currently use a specific PFAS chemical, tetraethylammonium perfluorooctanesulfonate (CAS No. 56773-42-3), to meet regulatory standards for hexavalent chromium (Cr(VI)) emissions. Thus, EPA has included this ongoing use of tetraethylammonium perfluorooctanesulfonate, as described in Unit II.A., as an exclusion in this SNUR, but encourages the continued exploration for possible substitutes.

2. Comment summary. Several specific uses of PFAS chemicals within the semiconductor, integrated circuit, and microelectronics industries were excluded from the previous two PFAS SNURs. The proposed SNUR includes an additional 183 chemicals that would affect those same uses in the same industry sectors, so the exclusions in the previous two SNURs should apply to the 183 chemicals listed in this SNUR. Also, these uses constitute ongoing uses, not significant new uses. The semiconductor industry has supported reduction initiatives and dialogue through trade associations in other regions around the world. One primary locus for reduction initiatives and dialogue has been the World Semiconductor Council.

Response. EPA recognizes that these are ongoing uses, and is therefore not designating the uses as significant new uses of the chemicals listed in Table 3. EPA is applying the exclusions described in Unit II.A. to the list of 183 PFAS chemicals in Table 3 of the regulatory text. EPA appreciates the efforts the semiconductor, integrated circuit, and microelectronics industries have made in their commitment to limit PFAS usage, to search for alternatives, and to limit exposures and releases.

3. Comment summary. Several specific uses of PFAS chemicals within the photographic film, paper, and imaging industries were excluded from the previous two PFAS SNURs. The proposed SNUR targets a broader list of 183 chemicals for these applications in the same industry sector. The exclusion in the previous SNURs should be applied to the 183 chemicals as well. Also, these uses constitute ongoing uses, not significant new uses. Comments also stated that since concerns were first raised in 2000, the photographic film, paper, and imaging industries have aggressively pursued a voluntary risk reduction strategy by investing heavily in research to find alternative substances that possess the performance features described earlier for PFAS.

Response. EPA recognizes that these are ongoing uses, and is therefore not designating the uses as significant new uses of the chemicals listed in Table 3. EPA is applying the current exclusion described in Unit II.A. to the list of 183 PFAS chemicals in Table 3 of the regulatory text. EPA appreciates the efforts the photographic film, paper, and imaging industries have made in their commitment to limit PFAS usage, to search for alternatives, and to limit exposures and releases.

4. Comment summary. Commenter requested an explanation of how the 183 chemicals in this SNUR were chosen, and pointed out that some of the alkyl ranges covered by the SNUR include chemicals with the PFAS chemical structure (Rf moiety) with a C4 chain length.

Response. EPA proposed that any PFAS chemical listed on the public TSCA Inventory that contained the Rf moiety with a chain length of C5 or larger as part of the chemical identity would be subject to the rulemaking process for this PFAS SNUR based on the similarity of these chemicals to those currently included in 40 CFR 721.9582. That decision addresses all PFAS chemicals on the public inventory that still remain after the previous two SNURs and the evidence that manufacturers have been moving to use the lower chain length PFAS chemicals. EPA also included all ranges that contained > C4 constituents, even when that lower end of the alkyl chain length included C4 composition, in order to capture the higher homologues, including C8, as discussed in the proposed rule.

5. Comment summary. This comment summary is based on the sanitized version of a Confidential Business Information (CBI) comment submitted to docket ID number EPA-HQ-OPPT-2005-0015, DCN # 63070000019, as well as additional information later provided by the commenter. The commenter originally indicated that it uses 13 of the 183 chemicals in/as various specified applications. The commenter stated: 1) PFAS substances are not directly or indirectly introduced into consumer products; 2) the exclusions should be applied to the 183 chemicals in Table 3 of the proposed SNUR; and 3) it uses these chemicals for a specific use that is different from those uses that were excluded in previous SNURs, i.e., as a component of an etchant, including a surfactant or fume suppressant, used in the plating process to produce electronic devices. The commenter also provided information for the low risk applications of PFAS in these uses; e.g., low volume, low exposure to workers, and low PFAS content, and product stewardship accomplishments. The commenter requested an exclusion based on the activities being ongoing for use as a component of an etchant, including a surfactant or mist/fume suppressant, in plating processes to produce electronic devices. The commenter also reduced the number of chemicals involved in this ongoing etchant use from thirteen to seven chemicals.

Response. The Agency now recognizes the use of the seven chemicals identified by the commenter as a component of an etchant used in the plating process to produce electronic devices is an ongoing use. Consequently, the Agency has included this use of any of the seven chemicals as an exclusion in the final SNUR.

IX. Economic Analysis

A. SNUNs

EPA evaluated the potential costs of establishing SNUR reporting requirements for potential manufacturers and importers of the chemical substances included in Table 3 of the regulatory text. While most businesses are subject to a $2,500 user fee required by 40 CFR 700.45(b)(2)(iii), small businesses with annual sales of less than $40 million when combined with those of the parent company (if any) are subject to a reduced user fee of $100 (40 CFR 700.45(b)(1)). The cost of submitting a SNUN, estimated in EPA's Economic Analysis at $7,991, including the user fee (Ref. 6), will be incurred only if a company decides to pursue a significant new use as defined in this final SNUR. Furthermore, while the expense of a SNUN and the uncertainties of possible EPA regulation may discourage certain innovations, that impact would be limited because such factors are unlikely to discourage an innovation that has high potential value. EPA's complete economic analysis is available in the public docket for this rule (See docket ID number EPA-HQ-OPPT-2005-0015).

B. Export Notification

Under section 12(b) of TSCA and implementing regulations at 40 CFR part 707, subpart D, exporters must notify EPA if they export or intend to export a chemical substance or mixture for which, among other things, a rule has been proposed or promulgated under TSCA section 5. On November 14, 2006, EPA revised the export notification requirement from an annual to a one-time requirement per each destination country for each exporter of a chemical substance subject to TSCA sections 5(a)(2), 5(b), 5(e)(1), and 5(e)(2) (November 14, 2006, 71 FR 66234) (FRL-8101-3). Previous to this amendment, exporters were required to submit a notice the first time in the calendar year they exported a particular chemical to a particular country. Notifications must include the exporter's name and address, the chemical name, the date(s) of export or intended export, the importing country (or countries), and the section of TSCA under which EPA has taken action. The total costs of export notification will vary by chemical, depending on the number of required notifications (i.e., the number of countries to which the chemical is exported).

In the report, Final Economic Analysis of the Amendments to TSCA Section 12(b) Export Notification Requirements (Ref. 7), it estimated the one-time export notification cost for an exporter making 25 submissions in a year to be $1,076. For a single notification, the cost would be $43.04 ($1,076/25). This supersedes an earlier 1992 EPA estimate that the one-time cost of preparing and submitting an export notification was $62.60, and the subsequent update of that figure for inflation which was included in the economic analysis for the proposed SNUR.

The total costs of export notification will vary per chemical, depending on the number of required notifications (i.e., number of countries to which the chemical is exported). EPA is unable to make any estimate of the likely number of export notifications for chemicals covered in this SNUR.

X. References

1. California Air Resources Board, Barrera, Robert. E-mail dated May 1, 2006, 03:58 p.m. to Amy Breedlove, EPA/OPPT.

2. EPA/OPPT. Internet Sources on tetraethylammonium perfluoroalkylsulfonate: Selective results of internet searches done by Amy Breedlove, March 9, 2007 and March 19, 2007.

3. EPA. Capsule Report: Hard Chrome Fume Suppressants and Control Technologies. EPA/625/R-98/002, December 1998.

4. EPA. National Emission Standards for Hazardous Air Pollutants; Proposed Standards for Chromium Emissions From Hard and Decorative Chromium Electroplating and Chromium Anodizing Tanks. Federal Register (58 FR 65768, December 16, 1993), p. 65779.

5. Comments submitted to EPA from the Surface Finishing Industry Council on proposed SNUR for PFAS, August 8, 2006 (see document EPA-HQ-OPPT-2005-0015-0024.1 available on-line at http://www.regulations.gov).

6. EPA 2007. Economic Analysis of the Final Significant New Use Rule for 183 Perfluoroalkyl Sulfonates, August 20, 2007.

7. EPA 2005. Final Economic Analysis of the Amendments to TSCA Section 12(b) Export Notification Requirements, August 2006 (see document EPA-HQ-OPPT-2005-0058-0017 available on-line at http://www.regulations.gov).

XI. Statutory and Executive Order Reviews

A. Executive Order 12866

Under Executive Order 12866, entitled Regulatory Planning and Review (58 FR 51735, October 4, 1993), the Office of Management and Budget (OMB) has determined that this SNUR is not a “significant regulatory action” subject to review by OMB, because it does not meet the criteria in section 3(f) of the Executive Order.

B. Paperwork Reduction Act

According to the Paperwork Reduction Act (PRA), 44 U.S.C. 3501 et seq., an Agency may not conduct or sponsor, and a person is not required to respond to a collection of information that requires OMB approval under the PRA, unless it has been approved by OMB and displays a currently valid OMB control number. The OMB control numbers for EPA's regulations codified in chapter 40 of the CFR, after appearing in the preamble of the final rule, are listed in 40 CFR part 9, are displayed either by publication in the Federal Register or by other appropriate means, such as on the related collection instrument or form, if applicable. The display of OMB control numbers in certain EPA regulations is consolidated in 40 CFR part 9. For the ICR activity contained in this final rule, in addition to displaying the applicable OMB control number in this unit, the OMB control number assigned to this ICR activity is already included in the table in 40 CFR 9.1.

The information collection requirements related to this action have already been approved by OMB pursuant to the PRA under OMB control number 2070-0038 (EPA ICR No. 1188). This action does not impose any burden requiring additional OMB approval. The burden for submitting a SNUN is estimated to average 107 hours per submission, at an estimated cost of $5,491. This burden estimate includes the time needed to review instructions, search existing data sources, gather and maintain the data needed, and complete, review, and submit the required SNUN. This burden estimate does not include the $2,500 user fee for submission of a SNUN ($100 for businesses with less than $40 million in annual sales).

Send any comments about the accuracy of the burden estimate, and any suggested methods for minimizing respondent burden, including through the use of automated collection techniques, to the Director, Collection Strategies Division, Office of Environmental Information (2822T), Environmental Protection Agency, 1200 Pennsylvania Ave., NW., Washington, DC 20460-0001. Please remember to include the OMB control number in any correspondence, but do not submit any completed forms to this address.

C. Regulatory Flexibility Act

Pursuant to section 605(b) of the Regulatory Flexibility Act (RFA) (5 U.S.C. 601 et seq.), the Agency hereby certifies that promulgation of this SNUR would not have a significant adverse economic impact on a substantial number of small entities. The factual basis for the Agency's determination is presented in the small entity impact analysis prepared as part of the economic analysis for this rule (Ref. 6), which is summarized in Unit IX., and a copy of which is available in the docket for this rulemaking. The following is a brief summary of the factual basis for this certification.

Under the RFA, small entities include small businesses, small organizations, and small governmental jurisdictions. For purposes of assessing the impacts of today's rule on small entities, small entity is defined in accordance with the RFA as: (1) A small business as defined by the Small Business Administration's (SBA) regulations at 13 CFR 121.201; (2) a small governmental jurisdiction that is a government of a city, county, town, school district, or special district with a population of less than 50,000; and (3) a small organization that is any not-for-profit enterprise which is independently owned and operated and is not dominant in its field.

A SNUR applies to any person (including small or large entities) who intends to engage in any activity described in the rule as a “significant new use.” By definition of the word “new,” and based on all information currently available to EPA, it appears that no small or large entities presently engage in such activity. Because a SNUR requires only that any person who intends to engage in such activity in the future first notify EPA by submitting a SNUN, no economic impact would even occur until someone decides to engage in those activities. Although some small entities may decide to conduct such activities in the future, EPA cannot presently determine how many, if any, there may be.

However, EPA's experience to date is that, in response to the promulgation of over 1,000 SNURs, the Agency receives on average only 10 SNUNs per year. Of those SNUNs submitted, none appear to be from small entities in response to any SNUR. In addition, the estimated reporting cost for submission of a SNUN (see Unit IX.), is minimal regardless of the size of the entity. Therefore, EPA believes that the potential economic impact of complying with this SNUR is not expected to be significant nor adversely impact a substantial number of small entities. In a SNUR that published on June 2, 1997 (62 FR 29684) (FRL-5597-1), the Agency presented its general determination that proposed and final SNURs are not expected to have a significant economic impact on a substantial number of small entities, which was provided to the Chief Counsel for Advocacy of the Small Business Administration.

D. Unfunded Mandates Reform Act

Based on EPA's experience with proposing and finalizing SNURs, State, local, and Tribal governments have not been impacted by these rulemakings, and EPA does not have any reason to believe that any State, local, or Tribal government would be impacted by this rulemaking. As such, EPA has determined that this regulatory action would not impose any enforceable duty, contain any unfunded mandate, or otherwise have any affect on small governments subject to the requirements of sections 202, 203, 204, or 205 of the Unfunded Mandates Reform Act of 1995 (UMRA) (Public Law 104-4).

E. Executive Order 13132

This action would not have a substantial direct effect on States, on the relationship between the national government and the States, or on the distribution of power and responsibilities among the various levels of government, as specified in Executive Order 13132, entitled Federalism (64 FR 43255, August 10, 1999).

F. Executive Order 13175

This rule would not have Tribal implications because it is not expected to have substantial direct effects on Indian Tribes. This rule would not significantly or uniquely affect the communities of Indian Tribal governments, nor would it involve or impose any requirements that affect Indian Tribes. Accordingly, the requirements of Executive Order 13175, entitled Consultation and Coordination with Indian Tribal Governments (65 FR 67249, November 6, 2000), do not apply to this rule.

G. Executive Order 13045

This action is not subject to Executive Order 13045, entitled Protection of Children from Environmental Health Risks and Safety Risks (62 FR 19885, April 23, 1997), because this is not an economically significant regulatory action as defined by Executive Order 12866, and this action does not address environmental health or safety risks disproportionately affecting children.

H. Executive Order 13211

This rule is not subject to Executive Order 13211, entitled Actions Concerning Regulations That Significantly Affect Energy Supply, Distribution, or Use (66 FR 28355, May 22, 2001), because this action is not expected to affect energy supply, distribution, or use.

I. National Technology Transfer and Advancement Act

In addition, since this action does not involve any technical standards, section 12(d) of the National Technology Transfer and Advancement Act of 1995 (NTTAA), Public Law 104-113, section 12(d) (15 U.S.C. 272 note), does not apply to this action.

J. Executive Order 12898

This action does not entail special considerations of environmental justice related issues as delineated by Executive Order 12898, entitled Federal Actions to Address Environmental Justice in Minority Populations and Low-Income Populations (59 FR 7629, February 16, 1994).

XII. Congressional Review Act

The Congressional Review Act, 5 U.S.C. 801 et seq., generally provides that before a rule may take effect, the Agency promulgating the rule must submit a rule report to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 721

Environmental protection, Chemicals, Hazardous substances, Reporting and recordkeeping requirements.

Dated: September 27, 2007.
Charles M. Auer,
Director, Office of Pollution Prevention and Toxics.

Therefore, 40 CFR part 721 is amended as follows:

PART 721—[AMENDED]

1. The authority citation for part 721 continues to read as follows:

Authority: 15 U.S.C. 2604, 2607, and 2625(c).

2. Section 721.9582 is amended as follows:

a. By revising the introductory text of paragraph (a)(1).

b. By adding Table 3 to paragraph (a)(1).

c. By revising paragraphs (a)(2) and (a)(3).

d. By adding paragraphs (a)(4) and (a)(5).

§ 721.9582 Certain perfluoroalkyl sulfonates.

(a) Chemical substances and significant new uses subject to reporting. (1) The chemical substances listed in Table 1, Table 2, and Table 3 of this section are subject to reporting under this section for the significant new uses described in paragraph (a)(2) of this section.

* * * * *

Table 3—PFAS Chemicals Subject to Reporting on or After November 8, 2007.
CAS No. | CAS Sixteenth Collective Index Name
335-24-0 | Cyclohexanesulfonic acid, 1,2,2,3,3,4,5,5,6,6-decafluoro-4-(1,1,2,2,2-pentafluoroethyl)-, potassium salt (1:1)
335-71-7 | 1-Heptanesulfonyl fluoride, 1,1,2,2,3,3,4,4,5,5,6,6,7,7,7-pentadecafluoro-
335-77-3 | 1-Decanesulfonic acid, 1,1,2,2,3,3,4,4,5,5,6,6,7,7,8,8,9,9,10,10,10-heneicosafluoro-
335-97-7 | 1-Pentanesulfonamide, 1,1,2,2,3,3,4,4,5,5,5-undecafluoro-N-2-propen-1-yl-
355-03-3 | Cyclohexanesulfonyl fluoride, 1,2,2,3,3,4,4,5,5,6,6-undecafluoro-
355-46-4 | 1-Hexanesulfonic acid, 1,1,2,2,3,3,4,4,5,5,6,6,6-tridecafluoro-
375-81-5 | 1-Pentanesulfonyl fluoride, 1,1,2,2,3,3,4,4,5,5,5-undecafluoro-
375-92-8 | 1-Heptanesulfonic acid, 1,1,2,2,3,3,4,4,5,5,6,6,7,7,7-pentadecafluoro-
423-86-9 | 1-Octanesulfonamide, 1,1,2,2,3,3,4,4,5,5,6,6,7,7,8,8,8-heptadecafluoro-N-2-propen-1-yl-
1869-77-8 | Glycine, N-ethyl-N-[(1,1,2,2,3,3,4,4,5,5,6,6,7,7,8,8,8-heptadecafluorooctyl)sulfonyl]-, ethyl ester
1893-52-3 | 2-Propenoic acid, 2-[ethyl[(1,1,2,2,3,3,4,4,5,5,6,6,6-tridecafluorohexyl)sulfonyl]amino]ethyl ester
2263-09-4 | 1-Octanesulfonamide, N-butyl-1,1,2,2,3,3,4,4,5,5,6,6,7,7,8,8,8-heptadecafluoro-N-(2-hydroxyethyl)-
2706-91-4 | 1-Pentanesulfonic acid, 1,1,2,2,3,3,4,4,5,5,5-undecafluoro-
2965-52-8 | 1-Octanesulfonamide, N,N′-[phosphinicobis(oxy-2,1-ethanediyl)]bis[N-ethyl-1,1,2,2,3,3,4,4,5,5,6,6,7,7,8,8,8-heptadecafluoro-
2991-50-6 | Glycine, N-ethyl-N-[(1,1,2,2,3,3,4,4,5,5,6,6,7,7,8,8,8-heptadecafluorooctyl)sulfonyl]-
2991-52-8 | Glycine, N-ethyl-N-[(1,1,2,2,3,3,4,4,5,5,6,6,7,7,8,8,8-heptadecafluorooctyl)sulfonyl]-, ammonium salt (1:1)
3107-18-4 | Cyclohexanesulfonic acid, 1,2,2,3,3,4,4,5,5,6,6-undecafluoro-, potassium salt (1:1)
3820-83-5 | 1-Octanesulfonamide, N-ethyl-1,1,2,2,3,3,4,4,5,5,6,6,7,7,8,8,8-heptadecafluoro-N-[2-(phosphonooxy)ethyl]-
3871-50-9 | Glycine, N-ethyl-N-[(1,1,2,2,3,3,4,4,5,5,6,6,7,7,8,8,8-heptadecafluorooctyl)sulfonyl]-, sodium salt (1:1)
3871-99-6 | 1-Hexanesulfonic acid, 1,1,2,2,3,3,4,4,5,5,6,6,6-tridecafluoro-, potassium salt (1:1)
3872-25-1 | 1-Pentanesulfonic acid, 1,1,2,2,3,3,4,4,5,5,5-undecafluoro-, potassium salt (1:1)
13417-01-1 | 1-Octanesulfonamide, N-[3-(dimethylamino)propyl]-1,1,2,2,3,3,4,4,5,5,6,6,7,7,8,8,8-heptadecafluoro-
21055-88-9 | Carbamic acid, N,N′-(4-methyl-1,3-phenylene)bis-, C,C′-bis[2-[ethyl[(1,1,2,2,3,3,4,4,5,5,6,6,7,7,8,8,8-heptadecafluorooctyl)sulfonyl]amino]ethyl] ester
24924-36-5 | 1-Octanesulfonamide, N-ethyl-1,1,2,2,3,3,4,4,5,5,6,6,7,7,8,8,8-heptadecafluoro-N-2-propen-1-yl-
34455-03-3 | 1-Hexanesulfonamide, N-ethyl-1,1,2,2,3,3,4,4,5,5,6,6,6-tridecafluoro-N-(2-hydroxyethyl)-
37338-48-0 | Poly[oxy(methyl-1,2-ethanediyl)], .alpha.-[2-[ethyl[(1,1,2,2,3,3,4,4,5,5,6,6,7,7,8,8,8-heptadecafluorooctyl)sulfonyl]amino]ethyl]-.omega.-hydroxy-
38850-52-1 | 1-Propanaminium, 3-[(carboxymethyl)[(1,1,2,2,3,3,4,4,5,5,6,6,6-tridecafluorohexyl)sulfonyl]amino]-N,N,N-trimethyl-, inner salt
38850-60-1 | 1-Propanesulfonic acid, 3-[[3-(dimethylamino)propyl][(1,1,2,2,3,3,4,4,5,5,6,6,6-tridecafluorohexyl)sulfonyl]amino]-
50598-28-2 | 1-Hexanesulfonamide, N-[3-(dimethylamino)propyl]-1,1,2,2,3,3,4,4,5,5,6,6,6-tridecafluoro-
50598-29-3 | 1-Octanesulfonamide, 1,1,2,2,3,3,4,4,5,5,6,6,7,7,8,8,8-heptadecafluoro-N-(phenylmethyl)-
51032-47-4 | Benzenesulfonic acid, [[[(1,1,2,2,3,3,4,4,5,5,6,6,7,7,8,8,8-heptadecafluorooctyl)sulfonyl]amino]methyl]-, sodium salt (1:1)
52032-20-9 | Poly(oxy-1,2-ethanediyl), .alpha.-[[[(1,1,2,2,3,3,4,4,5,5,6,6,7,7,8,8,8-heptadecafluorooctyl)sulfonyl]methylamino]carbonyl]-.omega.-butoxy-
52166-82-2 | 1-Propanaminium, N,N,N-trimethyl-3-[[(1,1,2,2,3,3,4,4,5,5,6,6,6-tridecafluorohexyl)sulfonyl]amino]-, chloride (1:1)
52550-45-5 | Poly(oxy-1,2-ethanediyl), .alpha.-[2-[[(1,1,2,2,3,3,4,4,5,5,6,6,7,7,8,8,8-heptadecafluorooctyl)sulfonyl]propylamino]ethyl]-.omega.-hydroxy-
55910-10-6 | Glycine, N-[(1,1,2,2,3,3,4,4,5,5,6,6,7,7,8,8,8-heptadecafluorooctyl)sulfonyl]-N-propyl-, potassium salt (1:1)
56372-23-7 | Poly(oxy-1,2-ethanediyl), .alpha.-[2-[ethyl[(1,1,2,2,3,3,4,4,5,5,6,6,6-tridecafluorohexyl)sulfonyl]amino]ethyl]-.omega.-hydroxy-
56773-42-3 | Ethanaminium, N,N,N-triethyl-, 1,1,2,2,3,3,4,4,5,5,6,6,7,7,8,8,8-heptadecafluoro-1-octanesulfonate (1:1)
58920-31-3 | 2-Propenoic acid, 4-[[(1,1,2,2,3,3,4,4,5,5,6,6,7,7,8,8,8-heptadecafluorooctyl)sulfonyl]methylamino]butyl ester
59071-10-2 | 2-Propenoic acid, 2-[ethyl[(1,1,2,2,3,3,4,4,5,5,6,6,7,7,7-pentadecafluoroheptyl)sulfonyl]amino]ethyl ester
60270-55-5 | 1-Heptanesulfonic acid, 1,1,2,2,3,3,4,4,5,5,6,6,7,7,7-pentadecafluoro-, potassium salt (1:1)
61577-14-8 | 2-Propenoic acid, 2-methyl-, 4-[[(1,1,2,2,3,3,4,4,5,5,6,6,7,7,8,8,8-heptadecafluorooctyl)sulfonyl]methylamino]butyl ester
66008-68-2 | 2-Propenoic acid, 2-[[(2,2,3,3,4,4,5,5,6,6,7,7,8,8,9,9,10,10,11,11,11-eicosafluoroundecyl)sulfonyl]methylamino]ethyl ester
66008-69-3 | 2-Propenoic acid, 2-[[(2,2,3,3,4,4,5,5,6,6,7,7,8,8,9,9,9-heptadecafluorononyl)sulfonyl]methylamino]ethyl ester
66008-70-6 | 2-Propenoic acid, 2-[methyl[(2,2,3,3,4,4,5,5,6,6,7,7,7-tridecafluoroheptyl)sulfonyl]amino]ethyl ester
67584-48-9 | 1-Hexanesulfonamide, 1,1,2,2,3,3,4,4,5,5,6,6,6-tridecafluoro-N-2-propen-1-yl-
67584-49-0 | 1-Heptanesulfonamide, 1,1,2,2,3,3,4,4,5,5,6,6,7,7,7-pentadecafluoro-N-2-propen-1-yl-
67584-50-3 | 1-Heptanesulfonamide, N-ethyl-1,1,2,2,3,3,4,4,5,5,6,6,7,7,7-pentadecafluoro-N-[3-(trichlorosilyl)propyl]-
67584-52-5 | Glycine, N-ethyl-N-[(1,1,2,2,3,3,4,4,5,5,5-undecafluoropentyl)sulfonyl]-, potassium salt (1:1)
67584-53-6 | Glycine, N-ethyl-N-[(1,1,2,2,3,3,4,4,5,5,6,6,6-tridecafluorohexyl)sulfonyl]-, potassium salt (1:1)
67584-54-7 | 1-Heptanesulfonamide, N-[3-(dimethylamino)propyl]-1,1,2,2,3,3,4,4,5,5,6,6,7,7,7-pentadecafluoro-
67584-56-9 | 2-Propenoic acid, 2-[methyl[(1,1,2,2,3,3,4,4,5,5,5-undecafluoropentyl)sulfonyl]amino]ethyl ester
67584-57-0 | 2-Propenoic acid, 2-[methyl[(1,1,2,2,3,3,4,4,5,5,6,6,6-tridecafluorohexyl)sulfonyl]amino]ethyl ester
67584-58-1 | 1-Propanaminium, N,N,N-trimethyl-3-[[(1,1,2,2,3,3,4,4,5,5,6,6,7,7,7-pentadecafluoroheptyl)sulfonyl]amino]-, iodide (1:1)
67584-60-5 | 2-Propenoic acid, 2-methyl-, 2-[methyl[(1,1,2,2,3,3,4,4,5,5,5-undecafluoropentyl)sulfonyl]amino]ethyl ester
67584-61-6 | 2-Propenoic acid, 2-methyl-, 2-[methyl[(1,1,2,2,3,3,4,4,5,5,6,6,6-tridecafluorohexyl)sulfonyl]amino]ethyl ester
67584-62-7 | Glycine, N-ethyl-N-[(1,1,2,2,3,3,4,4,5,5,6,6,7,7,7-pentadecafluoroheptyl)sulfonyl]-, potassium salt (1:1)
67906-38-1 | 2-Propenoic acid, 2-methyl-, 4-[methyl[(1,1,2,2,3,3,4,4,5,5,6,7,7,7-pentadecafluoroheptyl)sulfonyl]amino]butyl ester
67906-40-5 | 2-Propenoic acid, 2-methyl-, 4-[methyl[(1,1,2,2,3,3,4,4,5,5,5-undecafluoropentyl)sulfonyl]amino]butyl ester
67906-41-6 | 1-Heptanesulfonamide, N-ethyl-1,1,2,2,3,3,4,4,5,5,6,6,7,7,7-pentadecafluoro-N-2-propen-1-yl-
67906-70-1 | 2-Propenoic acid, 2-methyl-, 2-[ethyl[(1,1,2,2,3,3,4,4,5,5,6,6,6-tridecafluorohexyl)sulfonyl]amino]ethyl ester
67906-71-2 | 2-Propenoic acid, 2-methyl-, 2-[ethyl[(1,1,2,2,3,3,4,4,5,5,6,6,6-tridecafluorohexyl)sulfonyl]amino]ethyl ester, polymer with octadecyl 2-propenoate and 2-propenoic acid
67906-73-4 | 2-Propenoic acid, 2-methyl-, 2-[ethyl[(1,1,2,2,3,3,4,4,5,5,5-undecafluoropentyl)sulfonyl]amino]ethyl ester
67906-74-5 | 2-Propenoic acid, 2-methyl-, 2-[ethyl[(1,1,2,2,3,3,4,4,5,5,5-undecafluoropentyl)sulfonyl]amino]ethyl ester, polymer with octadecyl 2-propenoate and 2-propenoic acid
67923-61-9 | 1-Heptanesulfonamide, N-ethyl-1,1,2,2,3,3,4,4,5,5,6,6,7,7,7-pentadecafluoro-N-[2-(phosphonooxy)ethyl]-
67939-36-0 | 2-Propenoic acid, 2-methyl-, 2-[ethyl[(1,1,2,2,3,3,4,4,5,5,6,6,7,7,7-pentadecafluoroheptyl)sulfonyl]amino]ethyl ester
67939-37-1 | 2-Propenoic acid, 2-methyl-, 2-[ethyl[(1,1,2,2,3,3,4,4,5,5,6,6,7,7,7-pentadecafluoroheptyl)sulfonyl]amino]ethyl ester, polymer with octadecyl 2-propenoate and 2-propenoic acid
67939-42-8 | 1-Octanesulfonamide, N-ethyl-1,1,2,2,3,3,4,4,5,5,6,6,7,7,8,8,8-heptadecafluoro-N-[3-(trichlorosilyl)propyl]-
67939-61-1 | 2-Propenoic acid, 2-methyl-, 4-[methyl[(1,1,2,2,3,3,4,4,5,5,6,6,6-tridecafluorohexyl)sulfonyl]amino]butyl ester
67939-87-1 | 1-Pentanesulfonamide, N,N′-[phosphinicobis(oxy-2,1-ethanediyl)]bis[N-ethyl-1,1,2,2,3,3,4,4,5,5,5-undecafluoro-
67939-88-2 | 1-Octanesulfonamide, N-[3-(dimethylamino)propyl]-1,1,2,2,3,3,4,4,5,5,6,6,7,7,8,8,8-heptadecafluoro-, hydrochloride (1:1)
67939-90-6 | 1-Pentanesulfonamide, N-ethyl-1,1,2,2,3,3,4,4,5,5,5-undecafluoro-N-[2-(phosphonooxy)ethyl]-
67939-92-8 | 1-Hexanesulfonamide, N,N′-[phosphinicobis(oxy-2,1-ethanediyl)]bis[N-ethyl-1,1,2,2,3,3,4,4,5,5,6,6,6-tridecafluoro-
67939-93-9 | 1-Heptanesulfonamide, N,N′-[phosphinicobis(oxy-2,1-ethanediyl)]bis[N-ethyl-1,1,2,2,3,3,4,4,5,5,6,6,7,7,7-pentadecafluoro-
67939-94-0 | 1-Heptanesulfonamide, N,N′,N''-[phosphinylidynetris(oxy-2,1-ethanediyl)]tris[N-ethyl-1,1,2,2,3,3,4,4,5,5,6,6,7,7,7-pentadecafluoro-
67939-96-2 | 2-Propenoic acid, 2-methyl-, 2-[methyl[(1,1,2,2,3,3,4,4,5,5,6,6,7,7,7-pentadecafluoroheptyl)sulfonyl]amino]ethyl ester
67939-97-3 | 1-Heptanesulfonamide, N,N′-[phosphinicobis(oxy-2,1-ethanediyl)]bis[N-ethyl-1,1,2,2,3,3,4,4,5,5,6,6,7,7,7-pentadecafluoro-, ammonium salt (1:1)
67939-98-4 | 1-Heptanesulfonamide, N-ethyl-1,1,2,2,3,3,4,4,5,5,6,6,7,7,7-pentadecafluoro-N-[2-(phosphonooxy)ethyl]-, ammonium salt (1:2)
67940-02-7 | 1-Heptanesulfonamide, N-[3-(dimethylamino)propyl]-1,1,2,2,3,3,4,4,5,5,6,6,7,7,7-pentadecafluoro-, hydrochloride (1:1)
67969-65-7 | 1-Hexanesulfonamide, N-ethyl-1,1,2,2,3,3,4,4,5,5,6,6,6-tridecafluoro-N-[2-(phosphonooxy)ethyl]-
68081-83-4 | Carbamic acid, N,N′-(4-methyl-1,3-phenylene)bis-, bis[2-[ethyl[(perfluoro-C4-8-alkyl)sulfonyl]amino]ethyl] ester
68084-62-8 | 2-Propenoic acid, 2-[methyl[(1,1,2,2,3,3,4,4,5,5,6,6,7,7,7-pentadecafluoroheptyl)sulfonyl]amino]ethyl ester
68156-00-3 | Cyclohexanesulfonyl fluoride, nonafluorobis(trifluoromethyl)-
68156-06-9 | Cyclohexanesulfonyl fluoride, decafluoro(1,1,2,2,2-pentafluoroethyl)-
68156-07-0 | Cyclohexanesulfonic acid, decafluoro(trifluoromethyl)-, potassium salt (1:1)
68227-87-2 | 2-Propenoic acid, 2-methyl-, 2-[ethyl[(1,1,2,2,3,3,4,4,5,5,6,6,7,7,8,8,8-heptadecafluorooctyl)sulfonyl]amino]ethyl ester, telomer with 2-[ethyl[(1,1,2,2,3,3,4,4,4-nonafluorobutyl)sulfonyl]amino]ethyl 2-methyl-2-propenoate, 2-[ethyl[(1,1,2,2,3,3,4,4,5,5,6,6,7,7,7-pentadecafluoroheptyl)sulfonyl]amino]ethyl 2-methyl-2-propenoate, 2-[ethyl
68227-94-1 | 2-Propenoic acid, 2-[[(1,1,2,2,3,3,4,4,5,5,6,6,7,7,8,8,8-heptadecafluorooctyl)sulfonyl]methylamino]ethyl ester, polymer with 2-[methyl[(1,1,2,2,3,3,4,4,4-nonafluorobutyl)sulfonyl]amino]ethyl 2-propenoate, .alpha.-(2-methyl-1-oxo-2-propen-1-yl)-.omega.-hydroxypoly(oxy-1,2-ethanediyl), .alpha.-(2-methyl-1-oxo-2-propen-1-yl)-.omega.
68227-96-3 | 2-Propenoic acid, butyl ester, telomer with 2-[[(1,1,2,2,3,3,4,4,5,5,6,6,7,7,8,8,8-heptadecafluorooctyl)sulfonyl]methylamino]ethyl 2-propenoate, 2-[methyl[(1,1,2,2,3,3,4,4,4-nonafluorobutyl)sulfonyl]amino]ethyl 2-propenoate, .alpha.-(2-methyl-1-oxo-2-propen-1-yl)-.omega.-hydroxypoly(oxy-1,4-butanediyl), .alpha.-(2-methyl
68227-97-4 | 2-Propenoic acid, 4-[methyl[(1,1,2,2,3,3,4,4,5,5,6,6,7,7,7-pentadecafluoroheptyl)sulfonyl]amino]butyl ester
68227-98-5 | 2-Propenoic acid, 4-[methyl[(1,1,2,2,3,3,4,4,5,5,6,6,6-tridecafluorohexyl)sulfonyl]amino]butyl ester
68227-99-6 | 2-Propenoic acid, 4-[methyl[(1,1,2,2,3,3,4,4,5,5,5-undecafluoropentyl)sulfonyl]amino]butyl ester
68228-00-2 | 2-Propenoic acid, ethyl ester, polymer with 4-[[(1,1,2,2,3,3,4,4,5,5,6,6,7,7,8,8,8-heptadecafluorooctyl)sulfonyl]methylamino]butyl 2-propenoate, 4-[methyl[(1,1,2,2,3,3,4,4,4-nonafluorobutyl)sulfonyl]amino]butyl 2-propenoate, .alpha.-(2-methyl-1-oxo-2-propen-1-yl)-.omega.-hydroxypoly(oxy-1,4-butanediyl), .alpha.-(2-methyl
68239-72-5 | 1-Pentanesulfonamide, 1,1,2,2,3,3,4,4,5,5,5-undecafluoro-N-(4-hydroxybutyl)-N-methyl-
68239-73-6 | 1-Octanesulfonamide, 1,1,2,2,3,3,4,4,5,5,6,6,7,7,8,8,8-heptadecafluoro-N-(4-hydroxybutyl)-N-methyl-
68239-74-7 | 1-Hexanesulfonamide, 1,1,2,2,3,3,4,4,5,5,6,6,6-tridecafluoro-N-(4-hydroxybutyl)-N-methyl-
68239-75-8 | 1-Heptanesulfonamide, N-ethyl-1,1,2,2,3,3,4,4,5,5,6,6,7,7,7-pentadecafluoro-N-[3-(trimethoxysilyl)propyl]-
68259-06-3 | 1-Nonanesulfonyl fluoride, 1,1,2,2,3,3,4,4,5,5,6,6,7,7,8,8,9,9,9-nonadecafluoro-
68259-07-4 | 1-Heptanesulfonic acid, 1,1,2,2,3,3,4,4,5,5,6,6,7,7,7-pentadecafluoro-, ammonium salt (1:1)
68259-08-5 | 1-Hexanesulfonic acid, 1,1,2,2,3,3,4,4,5,5,6,6,6-tridecafluoro-, ammonium salt (1:1)
68259-09-6 | 1-Pentanesulfonic acid, 1,1,2,2,3,3,4,4,5,5,5-undecafluoro-, ammonium salt (1:1)
68259-12-1 | 1-Nonanesulfonic acid, 1,1,2,2,3,3,4,4,5,5,6,6,7,7,8,8,9,9,9-nonadecafluoro-
68259-14-3 | 1-Heptanesulfonamide, 1,1,2,2,3,3,4,4,5,5,6,6,7,7,7-pentadecafluoro-N-methyl-
68259-15-4 | 1-Hexanesulfonamide, 1,1,2,2,3,3,4,4,5,5,6,6,6-tridecafluoro-N-methyl-
68259-38-1 | Poly[oxy(methyl-1,2-ethanediyl)], .alpha.-[2-[ethyl[(1,1,2,2,3,3,4,4,5,5,6,6,6-tridecafluorohexyl)sulfonyl]amino]ethyl]-.omega.-hydroxy-
68259-39-2 | Poly[oxy(methyl-1,2-ethanediyl)], .alpha.-[2-[ethyl[(1,1,2,2,3,3,4,4,5,5,6,6,7,7,7-pentadecafluoroheptyl)sulfonyl]amino]ethyl]-.omega.-hydroxy-
68298-06-6 | 2-Propenoic acid, 2-[ethyl[(1,1,2,2,3,3,4,4,5,5,5-undecafluoropentyl)sulfonyl]amino]ethyl ester
68298-08-8 | 1-Pentanesulfonamide, 1,1,2,2,3,3,4,4,5,5,5-undecafluoro-N-(phenylmethyl)-
68298-09-9 | 1-Hexanesulfonamide, 1,1,2,2,3,3,4,4,5,5,6,6,6-tridecafluoro-N-(phenylmethyl)-
68298-10-2 | 1-Heptanesulfonamide, 1,1,2,2,3,3,4,4,5,5,6,6,7,7,7-pentadecafluoro-N-(phenylmethyl)-
68298-11-3 | 1-Propanaminium, 3-[[(1,1,2,2,3,3,4,4,5,5,6,6,7,7,8,8,8-heptadecafluorooctyl)sulfonyl](3-sulfopropyl)amino]-N-(2-hydroxyethyl)-N,N-dimethyl-, inner salt
68298-13-5 | 1-Pentanesulfonamide, 1,1,2,2,3,3,4,4,5,5,5-undecafluoro-N-methyl-
68298-60-2 | 2-Propenoic acid, 2-[butyl[(1,1,2,2,3,3,4,4,5,5,6,6,7,7,7-pentadecafluoroheptyl)sulfonyl]amino]ethyl ester
68298-78-2 | 2-Propenoic acid, 2-methyl-, 2-[[[[5-[[[2-[ethyl[(1,1,2,2,3,3,4,4,5,5,6,6,7,7,8,8,8-heptadecafluorooctyl)sulfonyl]amino]ethoxy]carbonyl]amino]-2-methylphenyl]amino]carbonyl]oxy]propyl ester, telomer with butyl 2-propenoate, 2-[[[[5-[[[2-[ethyl[(1,1,2,2,3,3,4,4,4-nonafluorobutyl)sulfonyl]amino]ethoxy]carbon
68298-80-6 | Poly(oxy-1,2-ethanediyl), .alpha.-[2-[ethyl[(1,1,2,2,3,3,4,4,5,5,5-undecafluoropentyl)sulfonyl]amino]ethyl]-.omega.-hydroxy-
68298-81-7 | Poly(oxy-1,2-ethanediyl), .alpha.-[2-[ethyl[(1,1,2,2,3,3,4,4,5,5,6,6,7,7,7-pentadecafluoroheptyl)sulfonyl]amino]ethyl]-.omega.-hydroxy-
68298-89-5 | 1-Heptanesulfonamide, 1,1,2,2,3,3,4,4,5,5,6,6,7,7,7-pentadecafluoro-N-(4-hydroxybutyl)-N-methyl-
68299-20-7 | Benzenesulfonic acid, [[[(1,1,2,2,3,3,4,4,5,5,5-undecafluoropentyl)sulfonyl]amino]methyl]-, sodium salt (1:1)
68299-21-8 | Benzenesulfonic acid, [[[(1,1,2,2,3,3,4,4,5,5,6,6,6-tridecafluorohexyl)sulfonyl]amino]methyl]-, sodium salt (1:1)
68299-29-6 | Benzenesulfonic acid, ar-[[[(1,1,2,2,3,3,4,4,5,5,6,6,7,7,7-pentadecafluoroheptyl)sulfonyl]amino]methyl]-, sodium salt (1:1)
68299-39-8 | 2-Propenoic acid, 2-methyl-, 4-[[(1,1,2,2,3,3,4,4,5,5,6,6,7,7,8,8,8-heptadecafluorooctyl)sulfonyl]methylamino]butyl ester, telomer with butyl 2-propenoate, 2-[[(1,1,2,2,3,3,4,4,5,5,6,6,7,7,8,8,8-heptadecafluorooctyl)sulfonyl]methylamino]ethyl 2-propenoate, 4-[methyl[(1,1,2,2,3,3,4,4,4-nonafluorobutyl)sulfonyl]amino]butyl 2-methyl-2-propeno
68310-02-1 | 1-Heptanesulfonamide, N-butyl-1,1,2,2,3,3,4,4,5,5,6,6,7,7,7-pentadecafluoro-N-(2-hydroxyethyl)-
68310-17-8 | Poly[oxy(methyl-1,2-ethanediyl)], .alpha.-[2-[ethyl[(1,1,2,2,3,3,4,4,5,5,5-undecafluoropentyl)sulfonyl]amino]ethyl]-.omega.-hydroxy-
68310-75-8 | 1-Propanaminium, 3-[[(1,1,2,2,3,3,4,4,5,5,6,6,7,7,8,8,8-heptadecafluorooctyl)sulfonyl]amino]-N,N,N-trimethyl-, iodide, ammonium salt (1:1:1)
68318-34-3 | Cyclohexanesulfonyl fluoride, decafluoro(trifluoromethyl)-
68318-36-5 | 1-Propanaminium, 3-[(carboxymethyl)[(1,1,2,2,3,3,4,4,5,5,6,6,7,7,8,8,8-heptadecafluorooctyl)sulfonyl]amino]-N,N,N-trimethyl-, inner salt
68391-09-3 | Sulfonic acids, C6-12-alkane, perfluoro, potassium salts
68541-01-5 | Benzoic acid, 2,3,4,5-tetrachloro-6-[[[3-[[(1,1,2,2,3,3,4,4,5,5,6,6,7,7,7-pentadecafluoroheptyl)sulfonyl]oxy]phenyl]amino]carbonyl]-, potassium salt (1:1)
68541-02-6 | Benzoic acid, 2,3,4,5-tetrachloro-6-[[[3-[[(1,1,2,2,3,3,4,4,5,5,5-undecafluoropentyl)sulfonyl]oxy]phenyl]amino]carbonyl]-, potassium salt (1:1)
68555-69-1 | Glycine, N-ethyl-N-[(1,1,2,2,3,3,4,4,5,5,5-undecafluoropentyl)sulfonyl]-, sodium salt (1:1)
68555-70-4 | Glycine, N-ethyl-N-[(1,1,2,2,3,3,4,4,5,5,6,6,6-tridecafluorohexyl)sulfonyl]-, sodium salt (1:1)
68555-71-5 | Glycine, N-ethyl-N-[(1,1,2,2,3,3,4,4,5,5,6,6,7,7,7-pentadecafluoroheptyl)sulfonyl]-, sodium salt (1:1)
68555-72-6 | 1-Pentanesulfonamide, N-ethyl-1,1,2,2,3,3,4,4,5,5,5-undecafluoro-N-(2-hydroxyethyl)-
68555-73-7 | 1-Heptanesulfonamide, N-ethyl-1,1,2,2,3,3,4,4,5,5,6,6,7,7,7-pentadecafluoro-N-(2-hydroxyethyl)-
68555-74-8 | 1-Pentanesulfonamide, 1,1,2,2,3,3,4,4,5,5,5-undecafluoro-N-(2-hydroxyethyl)-N-methyl-
68555-75-9 | 1-Hexanesulfonamide, 1,1,2,2,3,3,4,4,5,5,6,6,6-tridecafluoro-N-(2-hydroxyethyl)-N-methyl-
68555-76-0 | 1-Heptanesulfonamide, 1,1,2,2,3,3,4,4,5,5,6,6,7,7,7-pentadecafluoro-N-(2-hydroxyethyl)-N-methyl-
68555-78-2 | 1-Pentanesulfonamide, N-[3-(dimethylamino)propyl]-1,1,2,2,3,3,4,4,5,5,5-undecafluoro-
68555-79-3 | Glycine, N-ethyl-N-[(1,1,2,2,3,3,4,4,5,5,5-undecafluoropentyl)sulfonyl]-, ethyl ester
68555-81-7 | 1-Propanaminium, N,N,N-trimethyl-3-[[(1,1,2,2,3,3,4,4,5,5,6,6,7,7,7-pentadecafluoroheptyl)sulfonyl]amino]-, chloride (1:1)
68568-77-4 | 2-Propenoic acid, 2-methyl-, 2-[ethyl[(1,1,2,2,3,3,4,4,5,5,6,6,7,7,8,8,8-heptadecafluorooctyl)sulfonyl]amino]ethyl ester, polymer with 2-chloro-1,3-butadiene, 2-[ethyl[(1,1,2,2,3,3,4,4,4-nonafluorobutyl)sulfonyl]amino]ethyl 2-methyl-2-propenoate, 2-[ethyl[(1,1,2,2,3,3,4,4,5,5,6,6,7,7,7-pentadecafluoroheptyl)sulfonyl]amino]ethyl 2-methyl
68608-13-9 | Sulfonamides, C4-8-alkane, perfluoro, N-ethyl-N-(hydroxyethyl), reaction products with TDI
68797-76-2 | 2-Propenoic acid, 2-methyl-, 2-ethylhexyl ester, polymer with 2-[[(1,1,2,2,3,3,4,4,5,5,6,6,7,7,8,8,8-heptadecafluorooctyl)sulfonyl]methylamino]ethyl 2-propenoate, 2-[methyl[(1,1,2,2,3,3,4,4,4-nonafluorobutyl)sulfonyl]amino]ethyl 2-propenoate, 2-[methyl[(1,1,2,2,3,3,4,4,5,5,6,6,7,7,7-pentadecafluoroheptyl)sulfonyl]amino]ethyl 2-propenoa
68815-72-5 | Benzoic acid, 2,3,4,5-tetrachloro-6-[[[3-[[(1,1,2,2,3,3,4,4,5,5,6,6,6-tridecafluorohexyl)sulfonyl]oxy]phenyl]amino]carbonyl]-, potassium salt (1:1)
68877-32-7 | 2-Propenoic acid, 2-methyl-, 2-[ethyl[(1,1,2,2,3,3,4,4,5,5,6,6,7,7,8,8,8-heptadecafluorooctyl)sulfonyl]amino]ethyl ester, polymer with 2-[ethyl[(1,1,2,2,3,3,4,4,4-nonafluorobutyl)sulfonyl]amino]ethyl 2-methyl-2-propenoate, 2-[ethyl[(1,1,2,2,3,3,4,4,5,5,6,6,7,7,7-pentadecafluoroheptyl)sulfonyl]amino]ethyl 2-methyl-2-propenoate, 2-[ethyl
68891-97-4 | Chromium, diaquatetrachloro[.mu.-[N-ethyl-N-[(1,1,2,2,3,3,4,4,5,5,6,6,7,7,7-pentadecafluoroheptyl)sulfonyl]glycinato-.kappa.O:.kappa.O′]]-.mu.-hydroxybis(2-propanol)-
68891-98-5 | Chromium, diaquatetrachloro[.mu.-[N-ethyl-N-[(1,1,2,2,3,3,4,4,5,5,6,6,6-tridecafluorohexyl)sulfonyl]glycinato-.kappa.O:.kappa.O′]]-.mu.-hydroxybis(2-propanol)di-
68891-99-6 | Chromium, diaquatetrachloro[.mu.-[N-ethyl-N-[(1,1,2,2,3,3,4,4,5,5,5-undecafluoropentyl)sulfonyl]glycinato-.kappa.O:.kappa.O′]]-.mu.-hydroxybis(2-propanol)di-
68957-31-3 | Glycine, N-ethyl-N-[(1,1,2,2,3,3,4,4,5,5,5-undecafluoropentyl)sulfonyl]-
68957-32-4 | Glycine, N-ethyl-N-[(1,1,2,2,3,3,4,4,5,5,6,6,6-tridecafluorohexyl)sulfonyl]-
68957-53-9 | Glycine, N-ethyl-N-[(1,1,2,2,3,3,4,4,5,5,6,6,6-tridecafluorohexyl)sulfonyl]-, ethyl ester
68957-54-0 | Glycine, N-ethyl-N-[(1,1,2,2,3,3,4,4,5,5,6,6,7,7,7-pentadecafluoroheptyl)sulfonyl]-, ethyl ester
68957-55-1 | 1-Propanaminium, N,N,N-trimethyl-3-[[(1,1,2,2,3,3,4,4,5,5,5-undecafluoropentyl)sulfonyl]amino]-, chloride (1:1)
68957-57-3 | 1-Propanaminium, N,N,N-trimethyl-3-[[(1,1,2,2,3,3,4,4,5,5,5-undecafluoropentyl)sulfonyl]amino]-, iodide (1:1)
68957-58-4 | 1-Propanaminium, N,N,N-trimethyl-3-[[(1,1,2,2,3,3,4,4,5,5,6,6,6-tridecafluorohexyl)sulfonyl]amino]-, iodide (1:1)
68957-60-8 | 1-Pentanesulfonamide, N-[3-(dimethylamino)propyl]-1,1,2,2,3,3,4,4,5,5,5-undecafluoro-, hydrochloride (1:1)
68957-61-9 | 1-Hexanesulfonamide, N-[3-(dimethylamino)propyl]-1,1,2,2,3,3,4,4,5,5,6,6,6-tridecafluoro-, hydrochloride (1:1)
68957-62-0 | 1-Heptanesulfonamide, N-ethyl-1,1,2,2,3,3,4,4,5,5,6,6,7,7,7-pentadecafluoro-
68957-63-1 | Glycine, N-ethyl-N-[(1,1,2,2,3,3,4,4,5,5,6,6,7,7,7-pentadecafluoroheptyl)sulfonyl]-
68958-60-1 | Poly(oxy-1,2-ethanediyl), .alpha.-[2-[ethyl[(1,1,2,2,3,3,4,4,5,5,6,6,7,7,7-pentadecafluoroheptyl)sulfonyl]amino]ethyl]-.omega.-methoxy-
70225-15-9 | 1-Heptanesulfonic acid, 1,1,2,2,3,3,4,4,5,5,6,6,7,7,7-pentadecafluoro-, compd. with 2,2′-iminobis[ethanol] (1:1)
70225-16-0 | 1-Hexanesulfonic acid, 1,1,2,2,3,3,4,4,5,5,6,6,6-tridecafluoro-, compd. with 2,2'-iminobis[ethanol] (1:1)
70225-17-1 | 1-Pentanesulfonic acid, 1,1,2,2,3,3,4,4,5,5,5-undecafluoro-, compd. with 2,2'-iminobis[ethanol] (1:1)
70225-20-6 | 1-Propanaminium, N,N,N-trimethyl-3-[[(1,1,2,2,3,3,4,4,5,5,6,6,7,7,7-pentadecafluoroheptyl)sulfonyl]amino]-, sulfate (2:1)
70225-24-0 | 1-Propanaminium, N,N,N-trimethyl-3-[[(1,1,2,2,3,3,4,4,5,5,5-undecafluoropentyl)sulfonyl]amino]-, sulfate (2:1)
70225-26-2 | 1-Propanaminium, 3-[[(1,1,2,2,3,3,4,4,5,5,6,6,7,7,8,8,8,-heptadecafluorooctyl)sulfonyl]amino]-N,N,N-trimethyl-, sulfate (2:1)
70248-52-1 | 1-Propanaminium, N,N,N-trimethyl-3-[[(1,1,2,2,3,3,4,4,5,5,6,6,6-tridecafluorohexyl)sulfonyl]amino]-, sulfate (2:1)
70900-40-2 | 2-Propenoic acid, 2-methyl-, 2-[[[[5-[[[4-[[(1,1,2,2,3,3,4,4,5,5,6,6,7,7,8,8,8-heptadecafluorooctyl)sulfonyl]methylamino]butoxy]carbonyl]amino]-2-methylphenyl]amino]carbonyl]oxy]propyl ester, telomer with butyl 2-propenoate, 2-[[(1,1,2,2,3,3,4,4,5,5,6,6,7,7,8,8,8-heptadecafluorooctyl)sulfonyl]methylamino]ethyl 2-propenoate,
71463-74-6 | 1-Octanesulfonic acid, 1,1,2,2,3,3,4,4,5,5,6,6,7,7,8,8,8-heptadecafluoro-, compd. with piperidine (1:1)
71463-78-0 | Phosphonic acid, P-[3-[ethyl[(1,1,2,2,3,3,4,4,5,5,6,6,7,7,8,8,8-heptadecafluorooctyl)sulfonyl]amino]propyl]-
71463-79-1 | Phosphonic acid, P-[3-[ethyl[(1,1,2,2,3,3,4,4,5,5,6,6,7,7,7-pentadecafluoroheptyl)sulfonyl]amino]propyl]-
71463-80-4 | Phosphonic acid, P-[3-[ethyl[(1,1,2,2,3,3,4,4,5,5,6,6,7,7,8,8,8-heptadecafluorooctyl)sulfonyl]amino]propyl]-, diethyl ester
71463-81-5 | Phosphonic acid, P-[3-[ethyl[(1,1,2,2,3,3,4,4,5,5,6,6,7,7,7-pentadecafluoroheptyl)sulfonyl]amino]propyl]-, diethyl ester
72785-08-1 | 1-Propanesulfonic acid, 3-[[3-(dimethylamino)propyl][(1,1,2,2,3,3,4,4,5,5,6,6,7,7,8,8,8-heptadecafluorooctyl)sulfonyl]amino]-
73018-93-6 | 2-Propenoic acid, 2-methyl-, 2-ethylhexyl ester, polymer with 2-[[(1,1,2,2,3,3,4,4,5,5,6,6,7,7,8,8,8-heptadecafluorooctyl)sulfonyl]methylamino]ethyl 2-propenoate
73019-19-9 | Benzamide, 4-[[4-[[[2-[[(1,1,2,2,3,3,4,4,5,5,6,6,7,7,8,8,8-heptadecafluorooctyl)sulfonyl]propylamino]ethyl]amino]carbonyl]phenyl]methyl]-N-octadecyl-
73019-20-2 | 1,3-Benzenedicarboxamide, N³-[2-[[(1,1,2,2,3,3,4,4,5,5,6,6,7,7,8,8,8-heptadecafluorooctyl)sulfonyl]methylamino]ethyl]-N¹-[2-[[(1,1,2,2,3,3,4,4,5,5,6,6,7,7,8,8,8-heptadecafluorooctyl)sulfonyl]propylamino]ethyl]-4-methyl-
73019-28-0 | 2-Propenoic acid, 2-[[(1,1,2,2,3,3,4,4,5,5,6,6,7,7,8,8,8-heptadecafluorooctyl)sulfonyl]propylamino]ethyl ester, polymer with .alpha.-(2-methyl-1-oxo-2-propen-1-yl)-.omega.-methoxypoly(oxy-1,2-ethanediyl)
73038-33-2 | 2-Propenoic acid, 2-[[(1,1,2,2,3,3,4,4,5,5,6,6,7,7,8,8,8-heptadecafluorooctyl)sulfonyl]propylamino]ethyl ester, polymer with 2-methyloxirane polymer with oxirane mono(2-methyl-2-propenoate)
73275-59-9 | 2-Propenoic acid, 2-[[(1,1,2,2,3,3,4,4,5,5,6,6,7,7,8,8,8-heptadecafluorooctyl)sulfonyl]propylamino]ethyl ester, polymer with .alpha.-(2-methyl-1-oxo-2-propen-1-yl)-.omega.-butoxypoly[oxy(methyl-1,2-ethanediyl)]
73772-33-5 | 1-Hexanesulfonamide, N-[3-(dimethylamino)propyl]-1,1,2,2,3,3,4,4,5,5,6,6,6-tridecafluoro-, acetate (1:1)
73772-34-6 | 1-Hexanesulfonamide, N-[3-(dimethylamino)propyl]-1,1,2,2,3,3,4,4,5,5,6,6,6-tridecafluoro-N-[2-[2-(2-hydroxyethoxy)ethoxy]ethyl]-
95590-48-0 | 2-Propenoic acid, 2-methyl-, 3-(trimethoxysilyl)propyl ester, polymer with ethenylbenzene, 2-[ethyl[(1,1,2,2,3,3,4,4,5,5,6,6,7,7,8,8,8-heptadecafluorooctyl)sulfonyl]amino]ethyl 2-propenoate and 2-hydroxyethyl 2-propenoate
148240-81-7 | Fatty acids, C18-unsatd., trimers, 2-[methyl[(1,1,2,2,3,3,4,4,5,5,5-undecafluoropentyl)sulfonyl]amino]ethyl esters
179005-06-2 | Sulfonamides, C4-8-alkane, perfluoro, N-[3-(dimethyloxidoamino)propyl], potassium salts

(2) The significant new uses are:

(i) Any manufacture or import for any use of any chemical substance listed in Table 1 of paragraph (a)(1) of this section.

(ii) Any manufacture or import for any use of any chemical substance listed in Table 2 of paragraph (a)(1) of this section, except as noted in paragraph (a)(3) of this section.

(iii) Any manufacture or import for any use of any chemical substance listed in Table 3 of paragraph (a)(1) of this section, except as noted in paragraphs (a)(3) through (a)(5) of this section.

(3) Manufacture or import of any chemical substance listed in Table 2 and Table 3 of paragraph (a)(1) of this section for the following specific uses shall not be considered as a significant new use subject to reporting under this section:

(i) Use as an anti-erosion additive in fire-resistant phosphate ester aviation hydraulic fluids.

(ii) Use as a component of a photoresist substance, including a photo acid generator or surfactant, or as a component of an anti-reflective coating, used in a photomicrolithography process to produce semiconductors or similar components of electronic or other miniaturized devices.

(iii) Use in coating for surface tension, static discharge, and adhesion control for analog and digital imaging films, papers, and printing plates, or as a surfactant in mixtures used to process imaging films.

(iv) Use as an intermediate only to produce other chemical substances to be used solely for the uses listed in paragraph (a)(3)(i), (ii), or (iii) of this section.

(4) Manufacture or import of tetraethylammonium perfluorooctanesulfonate (CAS No. 56773-42-3) for use as a fume/mist suppressant in metal finishing and plating baths shall not be considered as a significant new use subject to reporting under this section. Examples of such metal finishing and plating baths include: Hard chrome plating; decorative chromium plating; chromic acid anodizing; nickel, cadmium, or lead plating; metal plating on plastics; and alkaline zinc plating.

(5) Manufacture or import of: 1-Pentanesulfonic acid, 1,1,2,2,3,3,4,4,5,5,5-undecafluoro-, potassium salt (CAS No. 3872-25-1); Glycine, N-ethyl-N-[(tridecafluorohexyl)sulfonyl]-, potassium salt (CAS No. 67584-53-6); Glycine, N-ethyl-N-[(pentadecafluoroheptyl)sulfonyl]-, potassium salt (CAS No. 67584-62-7); 1-Heptanesulfonic acid, 1,1,2,2,3,3,4,4,5,5,6,6,7,7,7-pentadecafluoro-,ammonium salt (CAS No. 68259-07-4); 1-Heptanesulfonamide, N-ethyl-1,1,2,2,3,3,4,4,5,5,6,6,7,7,7-pentadecafluoro- (CAS No. 68957-62-0); Poly(oxy-1,2-ethanediyl), .alpha.-[2-[ethyl[(pentadecafluoroheptyl)sulfonyl]amino]ethyl]-.omega.-methoxy- (CAS No. 68958-60-1); or 1-Hexanesulfonic acid, 1,1,2,2,3,3,4,4,5,5,6,6,6-tridecafluoro-, compd. with 2,2′-iminobis[ethanol] (1:1) (CAS No. 70225-16-0) for use as a component of an etchant, including a surfactant or fume suppressant, used in the plating process to produce electronic devices shall not be considered a significant new use subject to reporting under this section.

* * * * *

[FR Doc. E7-19828 Filed 10-5-07; 8:45 am]

BILLING CODE 6560-50-S